DEPARTMENT OF COMMERCE

National Oceanic and Atmospheric Administration

RIN 0648-XF623

North Pacific Fishery Management Council; Public Meeting

AGENCY: National Marine Fisheries Service (NMFS), National Oceanic and Atmospheric Administration (NOAA), Commerce.

ACTION: Notice of public meeting.

SUMMARY: The North Pacific Fishery Management Council (Council) Bering Sea Fishery Ecosystem Plan Team (BS FEP) will meet September 5-7, 2017.

DATES: The meeting will be held on Tuesday, September 5 through Thursday, September 7, 2017. The meeting will be held on September 5, from 1 p.m. to 5 p.m.; September 6, from 9 a.m. to 5 p.m. and September 7, from 9 a.m. to 3 p.m.

ADDRESSES: The meeting will be held at the Alaska Fisheries Science Center, 4600 Sand Point Way, Building 4, Room 2039, Seattle, WA 98115. It will also be held via teleconference: (907) 271-2896. Listening only for non-team members.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

Tuesday, September 5-Thursday, September 7

The BS FEP agenda will consist of continuing to develop the Bering Sea Fishery Ecosystem Plan, including (a) review sections of the core FEP document, (b) review progress on action modules, and (c) discuss next steps. A full agenda is available at www.npfmc.org/wp-content/PDFdocuments/conservation_issues/BSFEP/BSFEPTagenda917.pdf and background information can be found at www.npfmc.org/bsfep.

Special Accommodations

These meetings are physically accessible to people with disabilities. Requests for sign language interpretation or other auxiliary aids should be directed to Shannon Gleason at (907) 271-2809 at least 7 working days prior to the meeting date.

Dated: August 21, 2017.
Tracey L. Thompson,
Acting Deputy Director, Office of Sustainable Fisheries, National Marine Fisheries Service.

[FR Doc. 2017-17944 Filed 8-23-17; 8:45 am]

BILLING CODE 3510-22-P